Title 3—

The President

Executive Order 13698 of June 24, 2015

Hostage Recovery Activities

By the authority vested in me as President by the Constitution and the laws of the United States of America, I hereby direct as follows:

Section 1. Purpose. The 21st century has witnessed a significant shift in hostage-takings by terrorist organizations and criminal groups abroad. Hostage-takers frequently operate in unstable environments that challenge the ability of the United States Government and its partners and allies to operate effectively. Increasingly, hostage-takers target private citizens—including journalists and aid workers—as well as Government officials. They also utilize increasingly sophisticated networks and tactics to derive financial, propaganda, and recruitment benefits from hostage-taking operations. The United States is committed to securing the safe recovery of U.S. nationals held hostage abroad and deterring future hostage-takings by denying hostage-takers any benefits from their actions. Because such hostage-takings pose unique challenges, the United States Government must be organized and work in a coordinated effort to use all instruments of national power to achieve these goals, consistent with the United States Government's no concessions policy. Establishing a single United States Government operational body to coordinate all efforts for the recovery of U.S. nationals taken hostage abroad, with policy guidance coordinated through the National Security Council, will increase the likelihood of a successful recovery, allow for enhanced support to hostages and their families, promote foreign policy and national security interests abroad, and enhance the prospects of successful criminal prosecutions of hostage-takers. Dedicating a senior diplomatic representative to operate in support of this coordinated effort will further enhance the potential for the safe recovery of hostages.

Sec. 2. Establishment and Responsibilities of the Hostage Recovery Fusion Cell. (a) The Attorney General, acting through the Director of the Federal Bureau of Investigation (FBI), shall establish within the FBI for administrative purposes an interagency Hostage Recovery Fusion Cell (HRFC).

(b) The following executive departments, agencies, and offices (agencies) shall participate in the HRFC:

(i) the Department of State;

(ii) the Department of the Treasury;

(iii) the Department of Defense;

(iv) the Department of Justice;

(v) the Office of the Director of National Intelligence;

(vi) the FBI;

(vii) the Central Intelligence Agency; and

(viii) other agencies as the President or the Attorney General, acting through the Director of the FBI, from time to time, may designate.

(c) The HRFC shall have a Director, who shall be a full-time senior officer or employee of, or detailed to, the FBI. The HRFC shall also have a Family Engagement Coordinator and other officers or employees as appropriate. The head of each participating agency shall, to the extent permitted by law, make available for assignment or detail to the HRFC such personnel as the Attorney General, acting through the Director of the FBI and after consultation with the head of the agency, may request. Such personnel so detailed or assigned will operate utilizing the clearances provided by their respective agencies.

(d) The HRFC shall coordinate efforts by participating agencies to ensure that all relevant information, expertise, and resources are brought to bear to secure the safe recovery of U.S. nationals held hostage abroad. The HRFC may also be tasked with coordinating the United States Government's response to other hostage-takings occurring abroad in which the United States has a national interest, as specifically referred to the HRFC by the Deputies Committee, as established in Presidential Policy Directive 1 of February 13, 2009 (Organization of the National Security Council System), or any successor. Pursuant to policy guidance coordinated through the National Security Council, the HRFC shall:

(i) identify and recommend hostage recovery options and strategies to the President through the National Security Council;

(ii) coordinate efforts by participating agencies to ensure that information regarding hostage events, including potential recovery options and engagements with families and external actors (including foreign governments), is appropriately shared within the United States Government to facilitate a coordinated response to a hostage-taking;

(iii) assess and track all hostage-takings of U.S. nationals abroad and provide regular reports to the President through the National Security Council on the status of such cases and any measures being taken toward the hostages' safe recovery;

(iv) provide a forum for intelligence sharing and, with the support of the Director of National Intelligence, coordinate the declassification of relevant information;

(v) coordinate efforts by participating agencies to provide appropriate support and assistance to hostages and their families in a coordinated and consistent manner and to provide families with timely information regarding significant events in their cases;

(vi) make recommendations to agencies in order to reduce the likelihood of U.S. nationals being taken hostage abroad and enhance United States Government preparation to maximize the probability of a favorable outcome following a hostage-taking; and

(vii) coordinate with agencies regarding congressional, media, and other public inquiries pertaining to hostage events.

Sec. 3. Establishment of the Hostage Response Group. (a) There shall be a Hostage Response Group (HRG) chaired by the Special Assistant to the President and Senior Director for Counterterrorism, to be convened on a regular basis and as needed at the request of the National Security Council to further the safe recovery of U.S. nationals held abroad. The HRG may also be tasked with coordinating the United States Government response to other hostage-takings occurring abroad in which the United States has a national interest, as specifically referred to the HRFC by the Deputies Committee.

(b) The regular members of the HRG shall include the Director of the HRFC, the HRFC's Family Engagement Coordinator, and senior representatives from the Department of State, Department of the Treasury, Department of Defense, Department of Justice, FBI, Office of the Director of National Intelligence, and other agencies as the President, from time to time, may designate.

(c) The HRG, in support of the Deputies Committee chaired by the Assistant to the President for Homeland Security and Counterterrorism, and consistent with the process outlined in Presidential Policy Directive 1 or any successor, shall:

(i) identify and recommend hostage recovery options and strategies to the President through the National Security Council, as consistent with Presidential Policy Directive 30 of June 24, 2015 (U.S. Nationals Taken Hostage Abroad and Personnel Recovery Efforts);

(ii) coordinate the development and implementation of U.S. hostage recovery policies, strategies, and procedures, consistent with the policies set forth in Presidential Policy Directive 30;

(iii) receive regular updates from the HRFC on the status of U.S. nationals being held hostage abroad and measures being taken to effect the hostages' safe recovery;

(iv) coordinate the provision of policy guidance to the HRFC, including reviewing recovery options proposed by the HRFC and working to resolve disputes within the HRFC; and

(v) where higher-level guidance is required, make recommendations to the Deputies Committee.

Sec. 4. Establishment of the Special Presidential Envoy for Hostage Affairs. (a) There shall be a Special Presidential Envoy for Hostage Affairs (Special Envoy), appointed by the President, who shall report to the Secretary of State.

(b) The Special Envoy shall:

(i) lead diplomatic engagement on U.S. hostage policy;

(ii) coordinate all diplomatic engagements in support of hostage recovery efforts, in coordination with the HRFC and consistent with policy guidance communicated through the HRG;

(iii) coordinate with the HRFC proposals for diplomatic engagements and strategy in support of hostage recovery efforts;

(iv) provide senior representation from the Special Envoy's office to the HRFC and in the HRG; and

(v) in coordination with the HRFC as appropriate, coordinate diplomatic engagements regarding cases in which a foreign government confirms that it has detained a U.S. national but the United States Government regards such detention as unlawful or wrongful.

Sec. 5. Reporting. (a) Within 180 days of the date of this order, the HRG shall provide a status report to the Assistant to the President for Homeland Security and Counterterrorism on the establishment of the HRFC and its implementation of policy guidance communicated through the HRG.

(b) Within 1 year of the date of this order, the Director of the National Counterterrorism Center, in consultation with the Secretary of State, Secretary of Defense, Attorney General, and Director of the FBI, shall provide a status report to the Assistant to the President for Homeland Security and Counterterrorism on the implementation of this order. That report shall be informed by consultation with stakeholders outside of the United States Government, including former hostages and hostages' families, and shall, to the extent possible, be made available to the public.

Sec. 6. Definition. For purposes of this order, the term “U.S. national” means: (a) a U.S. national as defined in either 8 U.S.C. 1101(a)(22) or 8 U.S.C. 1408; or (b) a lawful permanent resident alien with significant ties to the United States.

Sec. 7. General Provisions. (a) This order shall be implemented consistent with applicable law and subject to the availability of appropriations.

(b) Nothing in this order shall be construed to impair or otherwise affect:

(i) the authority granted by law, regulation, Executive Order, or Presidential Directive to any executive department, agency, or head thereof; or

(ii) the functions of the Director of the Office of Management and Budget relating to budgetary, administrative, or legislative proposals.

(c) This order is not intended to, and does not, create any right or benefit, substantive or procedural, enforceable at law or in equity by any party against the United States, its departments, agencies, or entities, its officers, employees, or agents, or any other person.

THE WHITE HOUSE,

June 24, 2015.

[FR Doc. 2015-16122

Filed 6-26-15; 11:15 am]

Billing code 3295-F5